DEPARTMENT OF THE INTERIOR

Geological Survey

Scientific Earthquake Studies Advisory Committee

AGENCY: U.S. Geological Survey, Interior.

ACTION: Notice of meeting.

SUMMARY: Pursuant to Public Law 106-503, the Scientific Earthquake Studies Advisory Committee (SESAC) will hold its next meeting on September 1-2, 2015, in the Ernst & Young Gallery of the Fincher Building, Cox School of Business, at the Southern Methodist University in Dallas, Texas. The Committee is comprised of members from academia, industry, and State government. The Committee shall advise the Director of the U.S. Geological Survey (USGS) on matters relating to the USGS's participation in the National Earthquake Hazards Reduction Program.

The Committee will review the research and monitoring activities supported by the USGS Earthquake Hazards Program that are focused on the Central and Eastern U.S.

Meetings of the Scientific Earthquake Studies Advisory Committee are open to the public.

DATES: September 1-2, 2015, commencing at 9:00am on the first day and adjourning at 5:00pm and commencing at 9:00am and adjourning by 1:00pm on September 2, 2015.

Contact: Dr. William Leith, U.S. Geological Survey, MS 905, 12201 Sunrise Valley Drive, Reston, Virginia 20192, (703) 648-6786, wleith@usgs.gov.

Billing Code: GX15GG00995TR00.

William Leith,
Senior Science Advisor for Earthquake and Geologic Hazards.

[FR Doc. 2015-18066 Filed 7-22-15; 8:45 am]

BILLING CODE P